DEPARTMENT OF ENERGY

U.S. Energy Information Administration

Request to Revise a Currently-Approved Data Collection

AGENCY: U.S. Energy Information Administration (EIA), Department of Energy.

ACTION: Notice and request for OMB review and comment.

SUMMARY: EIA has submitted a request to revise a currently-approved data collection under the provisions of the Paperwork Reduction Act of 1995 to the Office of Management and Budget (OMB). EIA proposes changes to the data collection requirements for the Forms EIA-861, “Annual Electric Power Industry Report,” EIA-923, “Power Plant Operations Report,” and the proposed creation of the Form EIA-861S, “Annual Electric Power Industry Report (Short).” All collection instruments are under OMB Control Number 1905-0129. The Form EIA-861 proposal is to modify the survey frame from a census of approximately 3,300 entities to a sample of approximately 2,200 entities and to estimate the total sales, revenues, and customer counts by sector. The Form EIA-861S proposal will collect data from the approximately 1,100 respondents that will no longer report on the Form EIA-861. The Form EIA-861S will collect a limited amount of sales, revenue, and customer count data and, for certain respondents, data on time-based rate customers and advanced meter reading (Advanced Metering Infrastructure/Automatic Meter Reading). Once every 5 years, the Form EIA-861S respondents will be asked to complete the Form EIA-861 in lieu of Form EIA-861S for sampling methodology purposes.

The Form EIA-923 proposal involves modifying the reporting requirements for only Schedule 2, which collects cost and quality data of fossil fuel purchases at electricity generating plants. The proposal is to raise the reporting threshold to 200 megawatts (MW) of nameplate capacity for power plants primarily fueled by natural gas, petroleum coke, distillate fuel oil, and residual fuel oil. EIA will remove the reporting requirement for self-produced and minor fuels, i.e., blast furnace gas, other manufactured gases, kerosene, jet fuel, propoane, and waste oils. The reporting threshold for coal plants will remain at 50 MW of nameplate capacity.

DATES: Comments regarding this proposed information collection must be received on or before October 1, 2012. If you anticipate that you will be submitting comments, but find it difficult to do so within the period of time allowed by this notice, please advise the DOE Desk Officer at OMB of your intention to make a submission as soon as possible. The Desk Officer may be telephoned at 202-395-4718 or contacted by email at Chad_S_Whiteman@omb.eop.gov.

ADDRESSES: Written comments should be sent to:

DOE Desk Officer, Office of Information and Regulatory Affairs, Office of Management and Budget, New Executive Office Building, 735 17th Street NW., Washington, DC 20503.

And to:

Rebecca A. Peterson, Office of Electricity, Renewables, and Uranium Statistics, Energy Information Administration, Email: ERUS2013@eia.gov, Fax: 202-287-1938.

FOR FURTHER INFORMATION CONTACT: Requests for additional information or copies of the information collection instrument and instructions should be directed to Rebecca A. Peterson, ERUS2013@eia.gov. Further details are available on the ERUS 2013 Web page at http://www.eia.gov/survey/changes/electricity/.

SUPPLEMENTARY INFORMATION: This information collection request contains: (1) OMB No.: 1905-0129; (2) Information Collection Request Title: Electricity Data Program; (3) Type of Request: Revision of a currently approved collection; (4) Purpose: The Forms EIA-861 and EIA-861S are mandatory surveys used to collect retail sales of electricity and associated revenue from all electric utilities, energy service providers, and distribution companies in the United States, its territories, and Puerto Rico on an annual basis. Form EIA-923 Schedule 2 collects information from regulated and unregulated electric power plants in the United States that burn certain fossil fuels and meet the reporting threshold. Data collected include fuel receipts, cost, quality, and coal mine information. Data from these three collection instruments are published for use by Congress and public and private analysts to monitor the status and trends of the electric power industry. The proposed changes to the Forms EIA-861 and EIA-923 data collections, and the proposed creation of the Form EIA-861S, are anticipated to reduce reporting burden for smaller respondents, in particular, and to reduce the level of effort EIA requires to collect and validate survey data; (5) Annual Estimated Number of Respondents: 4,376; (6) Annual Estimated Number of Total Responses: 15,354; (7) Annual Estimated Number of Burden Hours: 35,934; (8) Annual Estimated Reporting and Recordkeeping Cost Burden: EIA estimates that there are no additional costs to respondents associated with the surveys other than the costs associated with the burden hours.

Statutory Authority: Section 13(b) of the Federal Energy Administration Act of 1974, 93, codified at 15 U.S.C. 772(b).

Issued in Washington, DC, on August 24, 2012.
Stephanie Brown,
Director, Office of Survey Development and Statistical Integration, U.S. Energy Information Administration.

[FR Doc. 2012-21403 Filed 8-29-12; 8:45 am]

BILLING CODE 6450-01-P